DEPARTMENT OF HOUSING AND URBAN DEVELOPMENT

[Docket No. FR-4901-N-17]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Burruss, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, United States Coast Guard, ATTN: Teresa Sheinberg, 2100 Second St., SW., Rm 6109, Washington, DC 20314-1000; (202) 267-6142; GSA: Mr. Brian K. Polly, Assistant Commissioner, General Services Administration, Office of Property Disposal, 18th and F Strets, NW., Washington, DC 20405; (202) 501-0084; Energy: Mr. Andy Duran, Department of Energy, Office of Engineering & Construction Management, ME-90, 1000 Independence Ave., SW., Washington, DC 20585; (202) 586-4548; Interior: Ms. Linda Tribby, Acquisition & Property Management, Department of the Interior, 1849 C Street, NW., MS5512, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: April 15, 2004.
Mark R. Johnston,
Acting Director, Office of Special Needs Assistance Programs.

TITLE V, FEDERAL SURPLUS PROPERTY PROGRAM FEDERAL REGISTER REPORT FOR 4/23/2004

Suitable/Available Properties

Buildings (by State)

New Jersey

Parcels 3, 4, 5

Former Cost Guard Station

Beach Haven Co: Ocean NJ 08008-

Landholding Agency: GSA

Property Number: 54200420005

Status: Excess

Comment: 11,644 sq. ft. bldg. w/1.4 acres, within floodplain, environmental considerations, legal restrictions

GSA Number: 1-U-NJ-499B

Tennessee

Tract 01-169

Shiloh Natl Military Park

Shiloh Co: Hardin TN 38376-

Landholding Agency: Interior

Property Number: 61200420003

Status: Excess

Comment: 1400 sq. ft., concrete block, off-site use only

Washington

Tract 03-123

Cascades National Park

Stehekin Co: Chelan WA 98852-

Landholding Agency: Interior

Property Number: 61200420004

Status: Excess

Comment: 636 sq. ft., off-site use only

Alabama

Stockpile Storage Site

Hamilton Blvd.

Theodore Co: AL 36582-

Landholding Agency: GSA

Property Number: 54200420003

Status: Excess

Comment: 43.27 acres of unimproved land

GSA Number: 4-G-AL-0772

Kentucky

Site #7

Smithland Lock & Dam 50

Hwy 387

Crittenden Co: KY 42064-

Landholding Agency: GSA

Property Number: 54200420004

Status: Excess

Comment: 26.79 acres w/boat ramp and parking, flowage easement, endangered species impact

GSA Number: 4-D-KY-0618

Hawaii

Property 100001AE>

Naval Station

Pearl Harbor Co: Honolulu HI 96818-

Landholding Agency: Navy

Property Number: 77200420015

Status: Unutilized

Comment: 1.39 acres w/improvement

Property 100001AU

Naval Station

Pearl Harbor Co: Honolulu HI 96818-

Landholding Agency: Navy

Property Number: 77200420016

Status: Unutilized

Comment: 2.77 acres w/improvement

Property 100019AA

Naval Station

Pearl Harbor Co: Honolulu HI 96818-

Landholding Agency: Navy

Property Number: 77200420017

Status: Unutilized

Comment: 4.48 acres w/improvement

Property 100019AB

Naval Station

Pearl Harbor Co: Honolulu HI 96818-

Landholding Agency: Navy

Property Number: 77200420018

Status: Unutilized

Comment: 3.15 acres w/improvement

Property 100021AC

Naval Station

Pearl Harbor Co: Honolulu HI 96818-

Landholding Agency: Navy

Property Number: 77200420019

Status: Unutilized

Comment: 2.57 acres w/improvement

Property 100021AD

Naval Station

Pearl Harbor Co: Honolulu HI 96818-

Landholding Agency: Navy

Property Number: 77200420020

Status: Unutilized

Comment: 2.77 acres w/improvement

California

Bldgs. 9163, 962, 9621

Sandia National Lab

Livermore Co: Alameda CA 94551-

Landholding Agency: Energy

Property Number: 41200420001

Status: Unutilized

Reason: Secured Area

Trailer 067E

Lawrence Berkeley National Lab

Berkeley Co: Alameda CA 947220-

Landholding Agency: Energy

Property Number: 41200420002

Status: Excess

Reason: Extensive deterioration

Tract 16-147

Yosemite National Park

Yosemite Co: Mariposa CA 95418-

Landholding Agency: Interior

Property Number: 61200420001

Status: Unutilized

Reason: Extensive deterioration

Bldg. CH1078

Naval Base

Oxnard Co: Ventura CA 93042-5000

Landholding Agency: Navy

Property Number: 77200420001

Status: Unutilized

Reason: Extensive deterioration

Bldg. 1223

Marine Corps Base

Camp Pendleton Co: CA 92055-

Landholding Agency: Navy

Property Number: 77200420002

Status: Excess

Reason: Extensive deterioration

Bldg. 2514

Marine Corps Base

Camp Pendleton Co: CA 92055-

Landholding Agency: Navy

Property Number: 77200420003

Status: Excess

Reason: Extensive deterioration

Bldg. 14103

Marine Corps Base

Camp Pendleton Co: CA

Landholding Agency: Navy

Property Number: 77200420004

Status: Excess

Reason: Extensive deterioration

Bldg. 14104

Marine Corps Base

Camp Pendleton Co: CA 92055—

Landholding Agency: Navy

Property Number: 77200420005

Status: Excess

Reason: Extensive deterioration

Bldg. 27604

Marine Corps Base

Camp Pendleton Co: CA 92055-

Landholding Agency: Navy

Property Number: 77200420006

Status: Excess

Reason: Extensive deterioration

Bldg. 43311

Marine Corps Base

Camp Pendleton Co: CA 92055-

Landholding Agency: Navy

Property Number: 77200420007

Status: Excess

Reason: Extensive deterioration

Bldg. 22150

Marine Corps Base

Camp Pendleton Co: CA 92055+

Landholding Agency: Navy

Property Number: 77200420008

Status: Excess

Reason: Extensive deterioration

Bldg. 22154

Marine Corps Base

Camp Pendleton Co: CA 92055-

Landholding Agency: Navy

Property Number: 77200420009

Status: Excess

Reason: Extensive deterioration

Bldg. 22156

Marine Corps Base

Camp Pendleton Co: CA 92055-

Landholding Agency: Navy

Property Number: 7720040010

Status: Excess

Reason: Extensive deterioration

Bldg. 210582

Marine Corps Base

Camp Pendleton Co: CA 92055-

Landholding Agency: Navy

Property Number: 77200420011

Status: Excess

Reason: Extensive deterioration

Hawaii

56 Buildings

NAVMAG/NRTE

Navy Housing

Waianae Co: Oahu HI 96792-

Landholding Agency: Navy

Property Number: 77200420012

Status: Excess

Reason: Extensive deterioration

Idaho

Bldg. TAN 628

Idaho Natl Eng & Env Lab

Scoville Co: Butte ID 83415-

Landholding Agency: Energy

Property Number: 41200420003

Status: Excess

Reason: Secured Area

Bldg. TRA 611

Idaho Natl Eng & Env Lab

Scoville Co: Butte ID 83415-

Landholding Agency: Energy

Property Number: 41200420004

Status: Excess

Reason: Secured Area

Bldg. TRA 624/732

Idaho Natl Eng & Env Lab

Scoville Co: Butte ID 83415-

Landholding Agency: Energy

Property Number: 41200420005

Status: Excess

Reason: Secured Area

Bldg. TRA 647

Idaho Natl Eng & Env Lab

Scoville Co: Butte ID 83415-

Landholding Agency: Energy

Property Number: 41200420006

Status: Excess

Reason: Secured Area

Bldg. TRA651, TRA656

Idaho Natl Eng & Env Lab

Scoville Co: Butte ID 83415-

Landholding Agency: Energy

Property Number: 41200420007

Status: Excess

Reason: Secured Area

Bldg. TRA 663

Idaho Natl Eng & Env Lab

Scoville Co: Butte ID 83415-

Landholding Agency: Energy

Property Number: 41200420008

Status: Excess

Reason: Secured Area

Bldg. TRA 779

Idaho Natl Eng & Env Lab

Scoville Co: Butte ID 83415-

Landholding Agency: Energy

Property Number: 41200420009

Status: Excess

Reason: Secured Area

Michigan

Bldg. TH1

USCG Beaver Island

Charlevoix Co: MI

Landholding Agency: Coast Guard

Property Number: 88200420001

Status: Unutilized

Reason: Secured Area

Bldg. OW1

USCG Beaver Island

Charlevoix: MI

Landholding Agency: Coast Guard

Property Number: 88200420002

Status: Unutilized

Reason: Secured Area

Bldg. OW2

USCG Beaver Island

Charlevoix Co: MI

Landholding Agency: Coast Guard

Property Number: 88200420003

Status: Unutilized

Reason: Secured Area

Minnesota

Federal Building

720 St. Germain Street

St. Cloud Co: MN 56301-

Landholding Agency: GSA

Property Number: 54200420001

Status: Excess

Reason: Within 200 ft. of flammable or explosive material

GSA Number: 1-G-MN-581

Nevada

7 Bldgs.

Naval Air Station

101, 103, 201, 203, 202, 204, 206

Fallon Co: Churchill NV 89406-

Landholding Agency: Navy

Property Number: 77200420013

Status: Unutilized

Reasons: Within airport runway clear zone Secured Area

Bldg. 735B

Naval Air Station

Fallon Co: Churchill NV 89406-

Landholding Agency: Navy

Property Number: 77200420014

Status: Unutilized

Reasons: Secured Area, Extensive deterioration

New Mexico

Tract 102-73

El Malpais National Monument

Grants Co: Cibola NM 87020-

Landholding Agency: Interior

Property Number: 61200420002

Status: Unutilized

Reason: Extensive deterioration

Ohio

Petro Distribution System

4820 River Road

Cincinnati Co: Hamilton OH

Landholding Agency: GSA

Property Number: 54200420002

Status: Excess

Reasons: Within 200 ft. of flammable or explosive material

GSA Number: OH

South Carolina

Bldg. 701-6G

Jackson Barricade

Jackson Co: SC

Landholding Agency: Energy

Property Number: 41200420010

Status: Unutilized

Reason: Secured Area

Bldg. 211-000F

Nuclear Materials Processing Facility

Aiken Co: SC 29802-

Landholding Agency: Energy

Property Number: 41200420011

Status: Excess

Reason: Secured Area

Bldg. 211-001F

Nuclear Materials Processing Facility

Aiken Co: SC 29802-

Landholding Agency: Energy

Property Number: 41200420012

Status: Excess

Reason: Secured Area

Bldg. 211-002F

Nuclear Materials Processing Facility

Aiken Co: SC 29802-

Landholding Agency: Energy

Property Number: 41200420013

Status: Excess

Reason: Secured Area

Bldg. 221-25F

Nuclear Materials Processing Facility

Aiken Co: SC 29802-

Landholding Agency: Energy

Property Number: 41200420014

Status: Excess

Reason: Secured Area

Bldg. 221-001F

Nuclear Materials Processing Facility

Aiken Co: SC 29802-

Landholding Agency: Energy

Property Number: 41200420015

Status: Excess

Reason: Secured Area

Bldg. 704-D

Federal Reserve Site

Aiken Co: SC 29802-

Landholding Agency: Energy

Property Number: 41200420016

Status: Excess

Reason: Secured Area

Texas

Bldg. 15-016

Pantex Plant

Amarillo Co: Carson TX 79120-

Landholding Agency: Energy

Property Number: 41200420017

Status: Unutilized

Reason: Secured Area

Bldg. 4-052P

Pantex Plant

Amarillo Co: Carson TX 79120-

Landholding Agency: Energy

Property Number: 41200420018

Status: Unutilized

Reason: Secured Area

Virginia

Storage Bldg. OV2

USCG

Naval Amphibious Base

Little Creek Co: Princess Ann VA

Landholding Agency: Coast Guard

Property Number: 88200420004

Status: Excess

Reason: Secured Area

[FR Doc. 04-8979 Filed 4-22-04; 8:45 am]

BILLING CODE 4210-29-M